DEPARTMENT OF ENERGY

Federal Energy Regulatory Commission

[Project No. 2337-077]

PacifiCorp; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2337-077.

c. Date filed: December 30, 2016.

d. Applicant: PacifiCorp.

e. Name of Project: Prospect No. 3 Hydroelectric Project.

f. Location: On the South Fork Rogue River, in Jackson County, Oregon. The project occupies 38.1 acres of United States lands within the Rogue River-Siskiyou National Forest under the jurisdiction of the U.S. Forest Service (Forest Service).

g. Filed Pursuant to: Federal Power Act, 16 U.S.C. 791 (a)-825(r).

h. Applicant Contact: Steve Albertelli, Relicensing Project Manager, PacifiCorp, 925 South Grape Street, Building 5, Medford, OR 97501; (541) 776-6676 or email at steve.albertelli@pacificorp.com.

i. FERC Contact: Dianne Rodman at (202) 502-6077 or email at dianne.rodman@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2337-077.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing project consists of: (1) A 24-foot-high, 172-foot-long concrete diversion dam with an integrated 98-foot-long ungated, uncontrolled ogee spillway section; (2) a 1-acre reservoir that extends 550 feet upstream from the dam with a gross storage capacity of 19 acre-feet at normal full pool elevation of 3,375 feet above sea level; (3) an 18-foot-wide intake structure at the north end of the dam on the right bank with trash rack; (4) a 15,894-foot-long flow conveyance system (project waterway) consisting of: A 273-foot-long concrete-lined canal fitted with a 25-foot-long, 9.75-foot-wide fish screen; a 66-inch-diameter, 5,448-foot-long woodstave pipe; a 5,805-foot-long concrete-lined canal; a 5-foot-wide, 6.5-foot-high, 698-foot-long concrete-lined horseshoe-shaped tunnel; a 416-foot-long canal to the forebay with a 2,486-foot-long side channel spillway discharging to Daniel Creek; and a 66-inch- to 48-inch-diameter, 3,254-foot-long riveted steel penstock; (5) a powerhouse containing one vertical-shaft Francis-type turbine with an installed capacity of 7.2 megawatts; (6) a 20-foot-long, 20-foot-wide, 5-foot-deep concrete tailrace; (7) a 66-inch-diameter, 887-foot-long wood-stave inverted siphon that routes flow from the tailrace to the non-project Middle Fork Canal; (8) a 6.97-mile-long, 69-kilovolt transmission line interconnecting at the Prospect Central substation; (9) an 86-foot-long, 15-pool concrete pool-and-weir ladder to provide upstream fish passage past the dam; and (10) appurtenant facilities. The project produces an average of 35.05 gigawatt-hours annually.

PacifiCorp proposes to: Improve fish ladder function by constructing an auxiliary bypass flow system, realigning and extending the existing fish bypass return pipe, and narrowing the weir notches; replace the existing woodstave pipe and inverted wooden siphon with steel structures to eliminate leakage; rehabilitate the temporary vehicle-access bridge over the new steel pipe to meet current Forest Service standards; construct a road spur to facilitate pass-through of materials dredged from the reservoir to the bypassed reach; upgrade the six existing wildlife crossings of the project waterway's canal by widening the crossings and constructing five new wildlife crossings; and install a communications link on the U.S. Geological Survey's South Fork Rogue gage.

PacifiCorp also proposes to increase the project's minimum flow releases and ramping rates limits, as well as extending the project boundary to include the inverted siphon and access roads.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Target date
Filing of recommendations, terms and conditions, and fishway prescriptions | May 2017
Commission issues EA | October 2017
Comments on EA | November 2017
Modified terms and conditions | January 2018

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: March 15, 2017.
Kimberly D. Bose,
Secretary .

[FR Doc. 2017-05780 Filed 3-22-17; 8:45 am]

BILLING CODE 6717-01-P